DEPARTMENT OF JUSTICE

Federal Bureau of Investigation

Agency Information Collection Activities: Proposed Collection; Comments Requested

ACTION: 30-Day Notice of Information Collection Under Review: Voluntary Appeal File (VAF) Brochure.

The Department of Justice (DOJ), Federal Bureau of Investigation (FBI) has submitted the following information collection request to the Office of Management and Budget (OMB) for review and approval in accordance with the Paperwork Reduction Act of 1995. The proposed information collection is published to obtain comments from the public and affected agencies. This proposed information collection was previously published in the Federal Register Volume 69, Number 218, page 65455 on November 12, 2004, allowing for a 60 day comment period.

The purpose of this notice is to allow for an additional 30 days for public comment until June 1, 2005. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this Information Collection

(1) Type of Information Collection: New data collection.

(2) Title of the Form/Collection: Voluntary Appeal File (VAF) Brochure.

(3) Agency form number, if any, and the applicable component of the Department sponsoring the collection: Form Number: None. Sponsor: Criminal Justice Information Services (CJIS) Division of Federal Bureau of Investigation (FBI), Department of Justice (DOJ).

(4) Affected public who will be asked or required to respond, as well as a brief abstract: Primary: Any individual requesting entry into the Federal Bureau of Investigation (FBI) National Instant Criminal Background Check System (NICS) Voluntary Appeal File (VAF) Brochure. Under the FBI NICS final rule, 28 CFR Part 25.9(b)(1), (2), (3), the FBI NICS Section must destroy all identifying information on allowed transactions before the start of the next FBI NICS operational day. If a potential purchaser is delayed or denied a firearm, then successfully appeals the decision, the FBI NICS Section would not be able to retain the record of the appeal. The purchaser would be denied continually if the record can not be updated, and would be required to appeal the decision and resubmit documentation/information to overturn the appeal on subsequent purchases. The proposed change in the regulation would permit lawful purchasers to request that the FBI NICS Section maintain documentation/information on them in a VAF. The VAF will be maintained by the FBI NICS for the purpose of preventing the future lengthy delays or denials of a firearm transfer.

The application contained on the VAF brochure will be the means for an individual to request entry into the VAF. This form will be made available to the public through Federal Firearm Licensees (FFLs), state points of contact for firearm checks, and on the FBI NICS Web site at the internet.

(5) An estimate of the total number of respondents and the amount of time estimated for an average respondent to respond/reply: The number of persons requesting entry into the VAF is estimated to be 12,500 individuals. It takes an average of five minutes to read and complete all areas of the application, an estimated two hours for the process of fingerprinting including travel, and 25 minutes to mail the form for a total of two and a half hours estimated burden to the respondent.

(6) An estimate of the total public burden (in hours) associated with the collection: The time it takes each individual to complete the process is 2.5 hours. The total public burden hours is 31,250 total burden hours.

If additional information is required contact: Brenda E. Dyer, Department Clearance Officer, United States Department of Justice, Justice Management Division, Policy and Planning Staff, Patrick Henry Building, Suite 1600, 601 D Street, NW., Washington, DC 20530.

Brenda E. Dyer,
Department Clearance Officer, Department of Justice.

[FR Doc. 05-8646 Filed 4-29-05; 8:45 am]

BILLING CODE 4410-02-P